COMMITTEE FOR PURCHASE FROM PEOPLE WHO ARE BLIND OR SEVERELY DISABLED

Procurement List; Deletions

AGENCY: Committee for Purchase From People Who Are Blind or Severely Disabled.

ACTION: Proposed deletions from the procurement list.

SUMMARY: The Committee is proposing to delete products and services from the Procurement List that were furnished by nonprofit agencies employing persons who are blind or have other severe disabilities.

DATES: Comments must be received on or before: March 8, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): 7530-01-583-0558—Folders, File, Reinforced Tab, Manila, ⅖ Cut, Letter

Mandatory Source of Supply: Central Association for the Blind & Visually Impaired, Utica, NY

Contracting Activity: GSA/FAS ADMIN SVCS ACQUISITION BR(2, NEW YORK, NY

NSN(s)—Product Name(s):

7510-01-660-3972—Toner Cartridge, Remanufactured, Standard Yield, Black, HP LaserJet 8100/8150 Compatible

7510-01-625-1726—Toner cartridge, Laser, Extra High Yield, HP Compatible for the P1102

7510-01-625-0852—Toner Cartridge, Laser, Double Yield, Compatible w/Lexmark E250d & other LM, Dell, & IBM printers

Mandatory Source of Supply: Alabama Industries for the Blind, Talladega, AL

Contracting Activity: GSA/FAS ADMIN SVCS ACQUISITION BR(2, NEW YORK, NY

Services

Service Type: Administrative Services

Mandatory for: GSA, Field Office Los Angeles: 312 N Spring Street, Los Angeles, CA

Mandatory for: GSA, Field Office Los Angeles: 300 N Los Angeles Street, Los Angeles, CA

Mandatory for: GSA, Field Office Los Angeles: 888 S Fugueroa, Los Angeles, CA

Mandatory Source of Supply: Elwyn, Aston, PA

Contracting Activity: GENERAL SERVICES ADMINISTRATION, FPDS AGENCY COORDINATOR

Service Type: Grounds Maintenance

Mandatory for: Hannah Houses & adjacent property 157-159 Conception St., Mobile AL

Mandatory Source of Supply: GWI Services, Inc., Mobile, AL

Contracting Activity: PUBLIC BUILDINGS SERVICE, ACQUISITION DIVISION/SERVICES BRANCH

Service Type: Mailroom Operation

Mandatory for: National Guard Bureau, Arlington Hall Building One and Two, Arlington, VA

Mandatory Source of Supply: Didlake, Inc., Manassas, VA

Contracting Activity: DEPT OF THE ARMY, W39L USA NG READINESS CENTER

Service Type: Administrative Services

Mandatory for: GSA, National Furniture Center: Crystal Mall Building 4, Arlington, VA

Mandatory Source of Supply: ServiceSource, Inc., Oakton, VA

Contracting Activity: GENERAL SERVICES ADMINISTRATION, FPDS AGENCY COORDINATOR

Service Type: Grounds Maintenance

Mandatory for: U.S. Court of Appeals: 7th and Mission Streets, San Francisco, CA

Mandatory Source of Supply: Rubicon Programs, Inc., Richmond, CA

Contracting Activity: GENERAL SERVICES ADMINISTRATION, FPDS AGENCY COORDINATOR

Michael R. Jurkowski,
Deputy Director, Business & PL Operations.

[FR Doc. 2020-02444 Filed 2-6-20; 8:45 am]

BILLING CODE 6353-01-P